DEPARTMENT OF DEFENSE

Department of the Air Force

Record of Decision for the 158th Fighter Wing's Proposed Realignment of National Guard Avenue and New Main Gate Construction, Vermont Air National Guard, Burlington International Airport, South Burlington, VT

ACTION: Notice of Availability (NOA) of a Record of Decision (ROD).

SUMMARY: On November 18, 2010, the United States Air Force signed the ROD for the 158th Fighter Wing's Proposed Realignment of National Guard Avenue and New Main Gate Construction, Vermont Air National Guard, Burlington International Airport, South Burlington, Vermont. The ROD states the Air Force decision to implement the preferred alternative (Alternative 1—-Realignment of a portion of National Guard Avenue to meet recommended stand-off distance between perimeter fence and mission critical resources and personnel).

The decision was based on matters discussed in the Final Environmental Impact Statement (EIS) for the Proposed Realignment of National Guard Avenue and New Main Gate Construction, inputs from the public and regulatory agencies, and other relevant factors. The Final EIS was made available to the public on August 13, 2010 through a NOA in the Federal Register (Volume 75, Number 156, Page 49487) with a wait period that ended on September 14, 2010. The ROD documents only the decision of the Air Force with respect to the proposed Air Force actions analyzed in the Final EIS. Authority: This NOA is published pursuant to the regulations (40 CFR Part 1506.6) implementing the provisions of the NEPA of 1969 (42 USC. 4321, et seq.) and the Air Force's Environmental Impact Analysis Process (EIAP) (32 CFR Parts 989.21(b) and 989.24(b)(7)).

FOR FURTHER INFORMATION CONTACT: Mr. Robert Dogan, NGB/A7AM, Conaway Hall, 3500 Fetchet Avenue, JB Andrews, MD 20762-5157 e-mail: robert.dogan@ang.af.mil.

Bao-Anh Trinh,
Air Force Federal Register Liaison Officer.

[FR Doc. 2010-31669 Filed 12-16-10; 8:45 am]

BILLING CODE 5001-10-P